DEPARTMENT OF TRANSPORTATION

Federal Aviation Administration

14 CFR Part 71

[Docket No. FAA-2003-14855; Airspace Docket No. 03-AAL-04]

Amendment to Class E Airspace; Pilot Point, AK

AGENCY: Federal Aviation Administration (FAA), DOT.

ACTION: Final rule; correction.

SUMMARY: This action corrects an error in the airport coordinates in the final rule for the Pilot Point Airport that were published in the Federal Register on August 11, 2003 (68 FR 47449), Docket No. FAA-2003-14855; Airspace Docket 03-AAL-04.

EFFECTIVE DATE: 0901 UTC, October 30, 2003.

FOR FURTHER INFORMATION CONTACT: Derril Bergt, Operations Branch, AAL-531, Federal Aviation Administration, 222 West 7th Avenue, Box 14, Anchorage, AK 99513-7587; telephone number (907) 271-2796; fax: (907) 271-2850; e-mail: Derril.ctr.Bergt@faa.gov. Internet address: http://www.alaska.faa.gov/at.

SUPPLEMENTARY INFORMATION:

History

Federal Register Document 03-20404, Docket No. FAA-2003-14855; Airspace Docket 03-AAL-4, published on August 11, 2003 (68 FR 47449) established new Class E airspace area at Pilot Point, AK. The coordinates for the Airport Reference Point were wrong. This action corrects the Airport Reference Point for the Pilot Point Airport, Pilot Point, AK.

Correction to Final Rule

Accordingly, pursuant to the authority delegated to me, the Class E airspace description listed for the Pilot Point Airport as published in the Federal Register on August 11, 2003, (68 FR 47449), (Federal Register Document 03-20404, page 47449), is corrected as follows:

§ 71.1 [Corrected]

* * * * *

AAL AK E5 Pilot Point, AK [Corrected]

Pilot Point Airport, AK

(Lat. 57° 34′ 49″ N., long. 157° 34′ 19″ W.)

* * * * *

Issued in Anchorage, AK, on August 29, 2003.
Judith G. Heckl,
Assistant Manager, Air Traffic Division, Alaskan Region.

[FR Doc. 03-22922 Filed 9-8-03; 8:45 am]

BILLING CODE 4910-13-P